DEPARTMENT OF TRANSPORTATION

Federal Aviation Administration

[Policy Statement No. ANE-2002-35.15-R0

Policy for Propeller Safety Analysis

AGENCY: Federal Aviation Administration, DOT.

ACTION: Notice of availability; policy statement.

SUMMARY: The Federal Aviation Administration (FAA) announces the availability of policy for propeller safety analysis.

DATES: The FAA issued policy statement number ANE-2002-35.15-R0 on October 30, 2003.

FOR FURTHER INFORMATION CONTACT: Jay Turnberg, FAA, Engine and Propeller Standards Staff, NAE-110, 12 New England Executive Park, Burlington, MA 01803; e-mail: jay.turnberg@faa.gov; telephone: (781) 238-7116; fax: (781) 238-7199. The policy statement is available on the Internet at the following address: http://www.airweb.faa.gov/rgl. If you do not have access to the Internet, you may request a copy of the policy by contacting the individual listed in this section.

SUPPLEMENTARY INFORMATION: The FAA published a notice in the Federal Register on November 21, 2002 (67 FR 70295) to announce the availability of the proposed policy and invite interested parties to comment.

Background

The intent of this policy is to provide guidance for conducting a propeller safety analysis. Although 14 CFR part 35 does not explicitly require a safety analysis, safety analyses are frequently conducted to support part 35 requirements, special conditions, and aircraft manufacture certification requirements. This policy does not establish new requirements.

(Authority: 49 U.S.C. 106(g), 40113, 44701-44702, 44704.)

Issued in Burlington, Massachusetts, on October 30, 2003.
Francis A. Favara,
Acting Manager, Engine and Propeller Directorate, Aircraft Certification Service.

[FR Doc. 03-28264 Filed 11-10-03; 8:45 am]

BILLING CODE 4910-13-M